ELECTION ASSISTANCE COMMISSION

11 CFR Part 9428

[EAC-2010-0025]

National Voter Registration Act

AGENCY: Election Assistance Commission.

ACTION: Notice of proposed rulemaking.

SUMMARY: The U.S. Election Assistance Commission (EAC) seeks comments on proposed changes to its regulations pertaining to the National Voter Registration Act of 1993 (NVRA). Section 9(a) of the NVRA requires the responsible agency to issue regulations for developing a national mail voter registration form and for submitting a biennial report to Congress on the impact of the NVRA. EAC proposes to amend its NVRA regulations to ensure that they are consistent with the Help America Vote Act of 2002 (HAVA) and to make some technical amendments. EAC also invites public comments on additional changes to the NVRA regulations to improve voter registration through the content and format of the Federal form and to change the date by which States are required to submit data to EAC for use in the biennial report to Congress on the impact of the NVRA. EAC will not make any changes to the NVRA regulations until after the November 2010 Federal election. EAC anticipates issuing a final rule pertaining to the regulations necessitated by HAVA. EAC may also issue new regulations about the content and format of the Federal form and the biennial report to Congress based on the comments it receives on the topics discussed in Section VI either in the same final rule or in a separate final rule.

DATES: Comments must be received no later than 5 p.m.. e.s.t. on November 23, 2010.

ADDRESSES: You may submit comments, identified by docket number EAC-2010-0025, by any of the following methods:

• Federal eRulemaking Portal: http://www.regulations.gov. Follow the instructions for submitting comments. Those commenting are strongly encouraged to submit comments via http://www.regulations.gov to ensure timely receipt and consideration.

• E-mail: NVRAregs@eac.gov. Include docket number (EAC-2010-0025) in the subject line of the message. Comments sent via e-mail must include the full name, e-mail address, and the postal address of the commenter. E-mail comments that do not contain the full name, e-mail address, and postal address of the commenter will not be considered.

• Mail: Send to “EAC Regulations” at U.S. Election Assistance Commission, 1201 New York Avenue, NW., Suite 300, Washington, DC 20005. Comments sent by mail must include the full name and the postal address of the commenter and be unbound, be on paper no larger than 8.5″ by 11″; and be submitted in duplicate. Comments received via mail that do not contain the full name, e-mail address, and postal address of the commenter will not be considered. Mailed comments will not be accepted in electronic form (floppy disk, CD, etc.).

Instructions: All submissions received must include the agency name and docket number for this rulemaking. All submissions must include the following in the subject line: “Election Assistance Commission National Voter Registration Act Regulations.” All comments received will be publicly posted, including any personal information provided. However, EAC will not post comments that contain profanity, vulgarity, threats, or other inappropriate language.

Docket: For access to the docket to read background documents or comments received, go to http://www.regulations.gov.

FOR FURTHER INFORMATION CONTACT: Ms. Karen Lynn-Dyson, Director, Division of Research, Policy and Programs or Mr. William P. Boehm, Deputy Director of Policy, (202) 566-3100 or (866) 747-1471 (toll free). You may also contact Ms. Lynn-Dyson or Mr. Boehm at NVRAregs@eac.gov.

SUPPLEMENTARY INFORMATION:

I. Background

The National Voter Registration Act of 1993 (NVRA), 42 U.S.C. 1973gg et seq. requires the responsible agency to develop a national mail voter registration form for elections to Federal office, and to submit a report to Congress no later than June 30 of each odd-numbered year that assesses the impact of the NVRA on the administration of elections for Federal office during the preceding 2-year period and recommends improvements in Federal and State procedures, forms, and other matters affected by the NVRA. The NVRA requires the U.S. Election Assistance Commission (EAC) to promulgate regulations to administer its responsibilities under the NVRA in consultation with the chief election officers of the States. EAC considers the public comment period provided in this notice of proposed rulemaking as fulfilling the requirement to consult with the chief election officers of the States.

After receiving public comment, the Federal Election Commission (FEC), which previously had responsibility for the NVRA, issued regulations implementing these requirements on June 23, 1994. See 59 FR 32323 June 23, 1994. The Help America Vote Act of 2002 (HAVA) 42 U.S.C. 15301 et seq., transferred to EAC functions fulfilled by the FEC under Section 9(a) of the NVRA. The FEC and EAC entered into a joint rulemaking to transfer the NVRA regulations from the FEC to EAC on July 29, 2009. See 74 FR 37520 July 29, 2009. The transfer became effective on August 28, 2009. In this notice of proposed rulemaking, EAC proposes to amend the NVRA regulations within the authority granted by the NVRA to reflect HAVA requirements and to make technical amendments. EAC also invites public comments on additional changes to the NVRA regulations to improve voter registration through the content and format of the Federal form and to change the date by which States are required to submit data to EAC for use in the biennial report to Congress on the impact of the NVRA.

II. National Mail Voter Registration Form

Persons wishing to register to vote may use the national mail voter registration form (“Federal form” or “form”) to apply for voter registration. After completing the form, an applicant submits her/his form for processing. States covered by the NVRA process the information from the form to register an applicant to vote. The NVRA does not apply to States “in which, under law that is in effect continuously on and after August 1, 1994, there is no voter registration requirement for any voter in the State with respect to an election for Federal office.” See 42 U.S.C. 1973gg-2(b)(1). North Dakota is exempt from implementing the NVRA under this provision. Nor does the NVRA apply to States “in which, under law that is in effect continuously on and after August 1, 1994, or that was enacted on or prior to August 1, 1994 and by its terms is to come into effect upon the enactment” of the NVRA, “so long as that law remains in effect, all voters in the State may register to vote at the polling place at the time of voting in a general election for Federal office.” See 42 U.S.C. 1973gg-2(b)(2). Idaho, Minnesota, New Hampshire, Wisconsin, and Wyoming are exempt from the NVRA under this provision. Neither EAC nor any other Federal agency processes or collects any information from the Federal form that a registration applicant submits to a State. Rather, EAC prescribes the Federal form, and States collect and record the information applicants submit.

The Federal form is composed of the registration application, instructions for completing the application (General Instructions and Application Instructions), and State-specific instructions that identify each State's particular requirements. A copy of the current form is available on EAC's Web site, at http://www.eac.gov (click on National Voter Registration Act). Information about obtaining a form can be obtained by calling EAC at (202) 566-3100 or (866) 747-1471 (toll free).

In seeking comments on the proposed regulation applicable to the Federal form, EAC encourages commenters to consider the usability and clarity of the Federal form while accommodating requirements under the NVRA and HAVA.

HAVA requirements affect both the content and the format of the Federal form. HAVA requires the addition of specific questions on citizenship and age, mandates the inclusion of instructions concerning documentation that is required from first-time voters registering by mail, and specifies voter identification number requirements for some States. The FEC, in accordance with the mandates of HAVA, incorporated the HAVA requirements on the Federal form in 2003. The NVRA regulations, however, have not been similarly amended to reflect the requirements of HAVA. EAC seeks comment on how the regulations applicable to the Federal form should be amended to incorporate these requirements. EAC's current regulations implementing the NVRA can be found at 11 CFR 9428.

A copy of the proposed regulations with amendatory language can be reviewed at the EAC Web site: http://www.eac.gov by clicking on the tab for the National Voter Registration Act.

III. Contents of the National Mail Voter Registration Form

Title 11 CFR 9428.4(a) and (c), in compliance with the NVRA requirements at 42 U.S.C. 1973gg-7(b)(1), directs applicants to provide: (1) Their full name; (2) any former name(s) (if applicable); (3) their residential address; (4) their mailing address (if different); (5) a former address under certain circumstances; (6) their date of birth; (7) their telephone number (optional); (8) their voter identification number, with reference to the State-specific instructions for the State identification number requirements; (9) their political party preference (for those States that require the declaration of party affiliation in order to participate in that party's nominating process); and (10) a statement of race/ethnicity (if required by the applicant's State). In accordance with 11 CFR 9428.4(b)(5) and in compliance with NVRA requirements at 42 U.S.C. 1973gg-7(b)(1), the application also provides a field for the name, address, and (optional) telephone number of the person who assisted the applicant in completing the form, if the applicant is unable to sign the application without assistance. In accordance with 11 CFR 9428.4(b)(1)-(3) and the NVRA requirements at 42 U.S.C. 1973gg-7(b)(2), the form: (1) Specifies each eligibility requirement (including citizenship and age), with reference to the eligibility requirements listed in the State-specific information; (2) contains an attestation that the applicant meets each such requirement; and (3) provides a field on the application for the signature of the applicant, under penalty of perjury. In addition, in accordance with 11 CFR 9428.4(b)(4), (6), and (7) and the NVRA requirements at 42 U.S.C. 1973gg-6(a)(5) and 7(b)(4)(i), the form includes: (1) A statement informing the applicant of the penalties provided by law for submitting a false voter registration application; (2) a statement that, if an applicant declines to register to vote, the fact that the applicant has declined to register will remain confidential and will be used only for voter registration purposes; and (3) a statement that if an applicant does register to vote, the office at which the applicant submits a voter registration application will remain confidential and the information provided will be used only for voter registration purposes.

EAC is proposing to modify the regulations that address the contents of the Federal form to account for HAVA requirements, and any exemptions to: (1) Voter identification number, in accordance with provisions at 42 U.S.C. 15483(a)(5)(A) and (D) and 42 U.S.C. 15483(d)(1); (2) questions concerning citizenship and age, along with associated check boxes and instructions, in accordance with 42 U.S.C. 15483(b)(4)(A)(i) through (iii); and (3) instructions for first-time voters who are required to provide voter identification documents, in accordance with requirements at 42 U.S.C. 15483(b)(1)-(3) and (4)(A)(iv). These proposed revisions would affect information about the applicant's voter identification number, addressed by 11 CFR 9428.4(a)(6), and the additional information listed in 11 CFR 9428.4(b).

A. Voter Identification Number

HAVA, at 42 U.S.C. 15483(a)(5)(A)(i), provides that a State may not accept or process an application for voter registration for an election for Federal office unless the applicant includes: (1) A driver's license number, in the case of an applicant who has been issued a current and valid driver's license; or (2) the last four digits of the applicant's social security number, if the applicant does not have a valid driver's license. HAVA exempts States from implementing this requirement if the applicant does not have a driver's license number or social security number. 42 U.S.C. 15483(a)(5)(A)(ii). HAVA also provides that the identification (ID) number requirements of HAVA, at 42 U.S.C. 15483(a)(5), are optional for those States permitted to use the social security number on voter registration application in accordance with the Privacy Act of 1974 (5 U.S.C. 552a note). 42 U.S.C. 15483(a)(5)(D).

EAC proposes to revise 11 CFR 9428.4(a)(6)(i) to recognize that requirements of Federal law may affect the notices that States are required to provide to applicants. The effect of this proposed amendment will be to retain the current instructions for completing Box 6-ID Number, which were previously placed on the form to comply with HAVA. EAC also proposes a technical amendment to 11 CFR 9428.4(a)(6)(ii) to include the Privacy Act notice provided when the social security number is requested or required.

EAC invites comments on the proposed regulation, at 11 CFR 9428.4(a)(6), and specific suggestions for the instructions for Box 6-ID Number to provide clear direction to applicants.

B. Additional Information Required

HAVA, at 42 U.S.C. 15483(b)(4)(A)(i)-(iii), requires that the following four statements be included on the form: (1) The question “Are you a citizen of the United States of America?” and boxes for the applicant to check to indicate whether the applicant is or is not a citizen of the United States; (2) the question “Will you be 18 years of age on or before election day?” and boxes for the applicant to check to indicate whether or not the applicant will be 18 years of age or older on election day; (3) the statement “If you checked `no' in response to either of these questions, do not complete this form”; and (4) a statement informing the applicant that if the form is submitted by mail and the individual is registering for the first time, additional documentation must be submitted with the mail-in registration form in order to avoid having to provide it upon voting the first time. The referenced documentation requirements and relevant implementation provisions are addressed at 42 U.S.C. 15483(b)(1)-(3).

EAC proposes to amend 11 CFR 9428.4(b) to recognize that Federal requirements other than the NVRA may affect the listed requirements—for example, the Privacy Act and HAVA—and to insert in the subsequent list the four HAVA items described above. The elements of the Federal form required by HAVA are in addition to those previously included by the NVRA. Therefore, nothing in the original FEC regulations or corresponding language on the Federal form should be revised or deleted. The insertion of the items will require the renumbering of the regulations.

The inclusion of the question “Will you be 18 years of age on or before election day?” that is mandated by 42 U.S.C. 15483(b)(4)(A)(ii) requires additional amendment to the NVRA regulations. Several States permit persons under age 18 to use a voter registration form to register and to vote in primary elections if they will be 18 years of age by the date of the general election. Further, other States permit persons under age 18 to use a voter registration form to pre-register to vote so that upon achieving 18 years of age, that applicant is registered to vote.

Due to differences in State age eligibility requirements, EAC proposes to amend 11 CFR 9428.4(b)(3) to provide for the placement of a notice underneath the sentence on the application that instructs applicants not to complete the form if they checked “No” in response to either question: The notice will advise applicants to review their State-specific instructions for rules regarding eligibility to register prior to age 18. The effect of this proposal is to retain the current exception notice, placed on the form in 2003 to accommodate State age eligibility requirements.

Under HAVA, at 42 U.S.C. 15483(b)(1) and (2), first-time voters have additional documentation requirements that must be included along with the application. First-time voters are individuals who have not “previously voted in an election for Federal office in the State” or who have not “previously voted in such an election in the jurisdiction and the jurisdiction is located in a State that does not have a computerized list that complies with the requirements of” 42 U.S.C. 15483(a), 42 U.S.C. 15483(b)(1)(B). First-time voters who register by mail must provide current and valid photo identification in person (or a copy of such photo identification if voting by mail), or they must provide a copy of another document, such as a current utility bill or bank statement, that shows their name and address before they will be allowed to vote. This requirement does not apply if the voter includes a copy of current and valid photo identification or other acceptable documentation as part of his or her voter registration application. 42 U.S.C. 15483(b)(3)(A). This requirement also does not apply to an individual who is entitled to vote by absentee ballot under the Uniformed and Overseas Citizens Absentee Voting Act, at 42 U.S.C. 1973ff-1 et seq.; who is provided the right to vote otherwise than in person under Section 3(b)(2)(B)(ii) of the Voting Accessibility for the Elderly and Handicapped Act, at 42 U.S.C. 1973ee-1(b)(2)(B)(ii); or who is entitled to vote otherwise than in person under any other Federal law. Additionally, this requirement is inapplicable to those who submit either a driver's license number or the last four digits of the individual's social security number, and the State or local election official matches the information with an existing State identification record bearing the same number, name, and date of birth. 42 U.S.C. 15483(b)(3)(B).

While the 2008 Election Administration & Voting Survey indicates that all States have a computerized list, the type of list and voter identification requirements vary from State to State. Given the potential variations among the States, EAC proposes to amend 11 CFR 9428.4(b) to require that an instruction be placed on the Federal form for first-time voters who register by mail advising them: (1) Of the acceptable forms of voter identification documents; (2) to review their State-specific instructions to determine if they must provide the documentation with the application to avoid having to provide it the first time they vote; and (3) of Federal statutes under which certain persons entitled to vote by absentee ballot are exempt from providing such documentation.

EAC seeks comment on how the current form and corresponding regulations should be revised to incorporate the first-time voters who register by mail provisions and the variations in the provision's application in a concise and clear manner.

IV. Format of the National Mail Voter Registration Form

The current regulations contain specifications for a sealable application printed on card stock to facilitate the submission of the form by mail and to withstand the subsequent handling by the postal service and election officials. The format requirements for the Federal form are set forth at 11 CFR 9428.5. This regulation addresses size, layout, color, signature field, and type size requirements for the form. EAC proposes to change the current requirements related to format to facilitate the inclusion of any required voter identification document. Specifically, EAC proposes to remove any reference to a “card” in 11 CFR 9428.5, including the references to postal service stock, weight regulations, and the perforated fold. In addition, EAC proposes to delete 11 CFR 9428.5(c)(1)-(2), which include the layout requirement for a sealable application, and any references to a two-sided application. Paragraph § 9428.5(c)(3) will become paragraph (c).

In lieu of a sealable, two-sided application card that meets postal service regulations and includes address lines to be completed by the applicant using the State information provided, EAC proposes to adopt requirements for a lighter weight application that can be enclosed, along with any required documentation, in an envelope when submitted by mail. Instructions relating to this proposed change are already contained on the form in the instruction entitled “How to Submit Your Application.” This instruction directs the applicant to enclose the application, along with any required voter identification document, in an envelope and to affix sufficient first-class postage. Inclusion of this instruction on the form will require additional language in the regulations. Accordingly, EAC proposes to amend 11 CFR 9428.4(b) by adding a new requirement for this instruction.

EAC moreover proposes to amend the format-specific regulations to accommodate first-time voters who register by mail. The current format specifications cannot be implemented easily with the HAVA requirements using the sealable application card because documentation submitted with the card could be lost in the mail. Because this lighter weight stock does not meet postal service regulations for postcard mailings, such applications either have to be submitted by mail in an envelope addressed to the proper authority or submitted in person. The proposed revision to the format regulations and the corresponding specifications would require all States that accept the Federal form to accept the form on lighter weight paper.

EAC seeks comment on its proposed amendment of the current format-specific regulations, especially as to how it may affect the submission of the application by applicants and the subsequent handling of the application by election officials.

V. Technical Amendments

EAC proposes several technical amendments to 11 CFR 9428. First, 11 CFR 9428.1 should be amended to clearly identify that EAC is the agency responsible for issuing regulations under the NVRA and to clarify that the regulations are impacted by the passage of HAVA. Second, 11 CFR 9428.3 is similarly amended to clarify that Subpart B of the regulations contains the requirements for the Federal form. Finally, there are a number of sections which contain dates that are no longer relevant and, therefore, should be deleted. These dates are contained in 11 CFR 9428.6(a) and 9428.7(c).

Title 11 CFR 9428.6 contains a list of information that each State is to provide to EAC regarding its State-specific instructions. Title 11 CFR 9428.6(a) specifies a deadline for each State to provide the information for its initial State-specific instructions to the FEC after the NVRA was enacted. Paragraph (a) states currently that “Each chief State election official shall certify to the EAC within 30 days after July 25, 1994.” EAC proposes that 11 CFR 9428.6(a) be amended to reflect that the information included in this subsection is required to appear in the State-specific instructions.

Should the public wish to see previous requirements, those remain available through archived versions of the Code of Federal Regulations. Further, should EAC take action in its final rulemaking to remove 11 CFR 9428.6(a), its final rulemaking notice will explain the change. The Federal Register notice of any final rulemaking will be available through the printed and electronic versions of the Federal Register for historical information.

VI. Request for Other Comments

The primary purpose of this notice of proposed rulemaking is to promulgate regulations necessitated by HAVA about the content and format of the national mail voter registration form. However, EAC recognizes that the public may have comments about other aspects of NVRA regulations under EAC's authority. EAC anticipates issuing a final rule pertaining to the regulations necessitated by HAVA. EAC may also issue new regulations about the content and format of the Federal form and the biennial report to Congress based on the comments it receives on the topics that follow either in the same final rule or in a separate final rule.

A. Content and Format of the National Mail Voter Registration Form

EAC encourages comments that seek to improve the content of the Federal form other than those required by HAVA. EAC is particularly interested in receiving comments on the following: (1) Providing an applicant for voter registration the option of inserting an e-mail address on the Federal form and amend accordingly 11 CFR 9428.4(a)(5) and Box 5 on the form, and (2) considering ways to accommodate overseas citizens and military voters, such as through the placement of boxes on the Federal form for applicants to indicate if they are a military or overseas citizen, which may assist States in fulfilling the requirements of the Uniformed and Overseas Citizens Absentee Voting Act (UOCAVA). EAC seeks comment on these specific areas in addition to other specific recommendations for changes to the content of the national mail voter registration form consistent with EAC's authority under the NVRA and HAVA.

EAC further realizes that additional changes to format might be necessary or desirable. EAC welcomes recommendations for changes in the format of the Federal form. Commenters who offer specific suggestions on how to incorporate elements consistent with the NVRA and HAVA are urged to consider how their proposed changes would impact format requirements and, if appropriate, suggest any revisions to 11 CFR 9428.5 that might be necessary should their recommendations be considered for adoption.

EAC has created a “fillable” Federal form available in an electronic format on its Web site for use by the public. Persons wishing to register to vote may access the form on the Web site, fill the form out, print the form, sign it, and mail it to the appropriate State address. At this time, EAC has not proposed an amendment to the current NVRA regulations to address the use of the Federal form in an electronic format. EAC, however, seeks comment on amending the regulations to incorporate new technologies to facilitate applicants' use of the Federal form. EAC is particularly interested in receiving comments on how EAC's regulations may be amended to accommodate the use of new technologies in an accessible and usable format, consistent with Federal statutes and regulations.

B. Report to Congress

While HAVA did not affect the NVRA requirement that EAC submit a biennial report to Congress, EAC requests NVRA-specific information as part of its Election Administration and Voting Survey. EAC also uses this survey to request UOCAVA information. The UOCAVA reporting deadline, however, is earlier than the current NVRA reporting deadline at 11 CFR 9428.7(a). EAC believes these deadlines should be uniform.

Title 11 CFR 9428.7 prescribes the data that each State covered by the NVRA must provide to EAC to enable it to submit the NVRA-required report to Congress in the year following a Federal election. The deadline in 11 CFR 9428.7(a) requires each chief State election official to file the prescribed information by March 31 of each odd-numbered year. EAC obtains this information via the Election Administration and Voting Survey. The Survey also contains questions related to election administration including those prescribed by UOCAVA, relative to absentee ballots for military and overseas citizens. Section 102(c) of UOCAVA states “Not later than 90 days after the date of each regularly scheduled general election for Federal office, each State and unit of local government which administered the election shall (through the State, in the case of a unit of local government) submit a report to the Election Assistance Commission (established under the Help America Vote Act of 2002) on the combined number of absentee ballots transmitted to absent uniformed services voters and overseas voters for the election and the combined number of such ballots which were returned by such voters and cast in the election, and shall make such report available to the general public.” Since UOCAVA information is obtained from the States via the same survey containing information used to file the report to Congress required by the NVRA at 42 U.S.C. 1973gg-7(a), EAC is interested in receiving public comment on changing the March 31 deadline contained in 11 CFR 9428.7(a) to be consistent with the 90 day submission requirement specified in UOCAVA.

List of Subjects in 11 CFR Part 9428

Elections, Reporting and recordkeeping requirements.

For the reasons stated in the preamble, EAC proposes to amend its regulations at 11 CFR part. 9428 as follows:

PART 9428—NATIONAL VOTER REGISTRATION ACT (42 U.S.C. 1973gg-1 et seq.)

1. The authority citation for part 9428 is revised to reads as follows:

Authority: 42 U.S.C. 1973gg-1 et seq., 42 U.S.C. 15301 et seq.

2. Revise the first sentence of § 9428.1 to read as follows:

§ 9428.1 Purpose & scope.

The regulations in this part implement the responsibilities delegated to the U.S. Election Assistance Commission under Section 9 of the National Voter Registration Act of 1993, Public Law 103-31, 97 Stat. 77, 42 U.S.C. 1973gg-1 et seq. (“NVRA”) as amended by the Help America Vote Act of 2002 (Pub. L. 107-252, 116 Stat. 1666, 42 U.S.C. 15301 et seq.).* * *

3. Revise paragraph (c) of § 9428.3 to read as follows:

§ 9428.3 General Information.

* * * * *

(c) States shall accept, use, and make available the form described in this subpart.

4. Amend § 9428.4 as follows:

a. Revise paragraphs (a)(6);

b. Redesignate paragraphs (b)(1) through (b)(7) as (b)(6) through (b)(12);

c. Revise the introductory text of (b); and

d. Add new paragraphs (b)(1) through (b)(5).

§ 9428.4 Contents.

(a) * * *

(6) Voter Identification number as required or requested by the applicant's State of residence for election administration purposes or as required by Federal law.

(i) The application shall direct the applicant to consult the accompanying State-specific instructions to determine what type of voter identification number is required or requested by the applicant's State or by Federal law affecting that State.

(ii) For each State that requests or requires the applicant's full social security number as its voter identification, the State's Privacy Act notice required at 11 CFR 9428.6(c) shall be reprinted with instructions for that State.

* * * * *

(b) Additional information required by Federal law. (42 U.S.C. 1973gg-7(b) (2) and (4) and the Help America Vote Act of 2002, 42 U.S.C. 15483(b)(4)(i)-(iv)). The form shall also:

(1) Include the question “Are you a citizen of the United States of America?” and boxes for the applicant to check to indicate whether the applicant is or is not a citizen of the United States.

(2) Include the question “Will you be 18 years of age on or before election day?” and boxes for the applicant to check to indicate whether or not the applicant will be 18 years of age or older on election day.

(3) With regard to the statements required in paragraphs (b)(1) and (b)(2) of this section, include the statements “If you checked `no' in response to either of these questions, do not complete this form.” and “(Exception: If you will be under 18 years of age as of the next election, you may complete this form if your State-specific instructions for item 9 on the form indicate that you are eligible to register to vote now.)”

(4) Include instructions for first-time voters who register by mail that include the list of acceptable voter identification documents, reference to the State instructions so that applicants may determine if they must provide this documentation with the application to avoid having to provide it the first time they vote, and the reference to Federal statutes under which certain persons are entitled to vote by absentee ballot and are exempt from providing such documentation.

(5) Include an instruction advising applicants how to mail their completed application.

* * * * *

5. Revise paragraphs (a), (b), and (c) of § 9428.5 to read as follows:

§ 9428.5 Format.

(a) The application shall conform to the technical specifications described in this Chapter.

(b) Size. The application shall consist of the top half of an 8.5″ by 11″ sheet of paper. The bottom half of the paper shall contain space for the information set forth at § 9428.4(c) of this part.

(c) Layout. Both sides of the application shall contain space designated “For Official Use Only.”

* * * * *

6. Amend § 9428.6 by revising paragraph (a) introductory text to read as follows:

§ 9428.6 Chief State Election Official.

(a) The following information shall be included for each state in the State-specific instructions on the form:

* * * * *

§ 9428.7 [Amended]

7. Remove paragraph (c) of § 9428.7.

Donetta L. Davidson,
Chair, U.S. Election Assistance Commission.

[FR Doc. 2010-19514 Filed 8-6-10; 8:45 am]

BILLING CODE 6820-KF-P